SOCIAL SECURITY ADMINISTRATION

Agency Information Collection Activities: Proposed Request and Comment Request

The Social Security Administration (SSA) publishes a list of information collection packages that will require clearance by the Office of Management and Budget (OMB) in compliance with Pub. L. 104-13, the Paperwork Reduction Act of 1995, effective October 1, 1995. The information collection packages that may be included in this notice are for new information collections, approval of existing information collections, revisions to OMB-approved information collections, and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed, faxed or e-mailed to the individuals at the addresses and fax numbers listed below:

(OMB): Office of Management and Budget, Attn: Desk Officer for SSA, Fax: 202-395-6974, E-mail address: OIRA_Submission@omb.eop.gov.

(SSA): Social Security Administration, DCFAM, Attn: Reports Clearance Officer, 1333 Annex Building, 6401 Security Blvd., Baltimore, MD 21235, Fax: 410-965-6400, E-mail address: OPLM.RCO@ssa.gov.

I. The information collections listed below are pending at SSA and will be submitted to OMB within 60 days from the date of this notice. Therefore, your comments should be submitted to SSA within 60 days from the date of this publication. You can obtain copies of the collection instruments by calling the SSA Reports Clearance Officer at 410-965-0454 or by writing to the address listed above.

1. Certificate of Responsibility for Welfare and Care of Child Not in Applicant's Custody—20 CFR 404.330, 404.339-341 and 404.348-404.349—0960-0019. SSA uses the information to determine if a non-custodial parent who is filing for Spouse's or Mother's and Father's benefits based on having a child in care meets the in-care requirements. Respondents are applicants for Spouse and/or Mother's and Father's benefits.

Type of Request: Extension of an OMB-approved information collection.

Number of Respondents: 14,000.

Frequency of Response: 1.

Average Burden per Response: 10 minutes.

Estimated Annual Burden: 2,333 hours.

2. Request for Waiver of Overpayment Recovery or Change in Repayment Notice—20 CFR 404.502-.513, 404.515 and 20 CFR 416.550-.570, 416.572—0960-0037. The SSA-632-BK is used by a beneficiary/claimant to request a waiver of recovery of an overpayment by explaining why they feel they are without fault in causing the overpayment and to provide financial circumstances so that SSA can determine whether recovery would cause financial hardship. It is also used to request a different rate of recovery. In those cases the financial information must be provided for SSA to determine how much the overpaid person can afford to repay each month. Respondents are overpaid beneficiaries or claimants who are requesting a waiver of recovery for overpayment or a lesser rate of withholding.

Type of Request: Extension of an OMB-approved information collection.

Number of Respondents: 500,000.

Estimated Annual Burden: 875,000 hours.

Reason for completing form | Number of respondents | Frequency of response | Average burden per response | Total annual burden
Request Waiver | 400,000 | 1 | 2 hours | 800,000
Request Change | 100,000 | 1 | 45 minutes | 75,000
Totals | 500,000 |  |  | 875,000

3. Supplemental Statement Regarding Farming Activities of Person Living Outside the U.S.A.—0960-0103. Form SSA-7163A is used whenever a beneficiary or claimant reports work on a farm outside the United States (U.S.). It is designed to obtain sufficient information to determine whether or not foreign work deductions are applicable to the claimant's benefits. Respondents are beneficiaries or claimants for Social Security benefits who are engaged in farming activity outside the U.S.

Type of Request: Extension of an OMB-approved information collection.

Number of Respondents: 1,000.

Frequency of Response: 1.

Average Burden per Response: 1 hour.

Estimated Annual Burden: 1,000 hours.

4. Disability Report—Appeal—20 CFR 404.1512, 416.912, 404.916(c), 416.1416(c), 405 Subpart C, 422.140—0960-0144. The SSA-3441-BK is used to secure updated medical and other information since the claimant's last disability determination from claimants who are appealing an unfavorable disability determination. This information may be used for reconsideration or request for federal reviewing official review of initial disability determinations and continuing disability reviews as well as a request for a hearing. This information assists the State Disability Determination Services, federal reviewing officials, and administrative law judges in preparing for appeals and hearings and in issuing a decision. Respondents are individuals who appeal denial of Social Security disability income and Supplemental Security Income (SSI) benefits, cessation of benefits, or who are requesting a hearing.

Type of Request: Revision of an OMB-approved information collection.

Estimated Annual Burden: 1,296,190 hours.

Collection method | Number of respondents | Frequency of response | Average burden per response | Estimated annual burden hours
SSA-3441 (Paper Form) | 21,282 | 1 | 45 minutes | 15,962
Electronic Disability Collect System (EDCS) | 1,284,019 | 1 | 45 minutes | 963,014
I3441 (Internet Form) | 158,607 | 1 | 120 minutes | 317,214
Totals | 1,463,908 |  |  | 1,296,190

5. Request for Earnings and Benefit Estimate Statement—20 CFR 404.810—0960-0466. SSA uses the information the requestor provides on Form SSA-7004 to identify his or her Social Security earnings record, extract posted earnings information, calculate potential benefit estimates, produce the resulting Social Security Statement and mail it to the requestor. Respondents are Social Security number holders requesting information about their Social Security earnings records and estimates of their potential benefits.

Type of Request: Extension of an OMB-approved information collection.

Number of Respondents: 545,000.

Frequency of Response: 1.

Average Burden per Response: 5 minutes.

Estimated Average Burden: 45,417 hours.

6. Employer Verification of Earnings After Death—20 CFR 404.821 and 404.822—0960-0472. The information collected on Form SSA-L4112 is used by SSA to determine whether wages reported by an employer are correct and should be credited to the employee's Social Security number when SSA records indicate that the wage earner is deceased. The respondents are employers who report wages for a deceased employee.

Type of Request: Extension of an OMB-approved information collection.

Number of Respondents: 50,000.

Frequency of Response: 1.

Average Burden per Response: 10 minutes.

Estimated Annual Burden: 8,333 hours.

7. Earnings Record Information—20 CFR 404.801-404.803 and 404.821-404.822—0960-0505. The information collected by form SSA-L3231-C1 is used to ensure that the proper person is credited for working when earnings are reported for a minor under age seven years. The respondents are businesses reporting earnings for children under age 7.

Type of Request: Extension of an OMB-approved information collection.

Number of Respondents: 20,000.

Frequency of Response: 1.

Average Burden per Response: 10 minutes.

Estimated Annual Burden: 3,333 hours.

8. Appointment of Representative—20 CFR 404.1707, 404.1720, 404.1725, 410.684 and 416.1507—0960-0527. A person claiming a right or benefit under the Social Security Act must notify SSA in writing if he or she appoints an individual to represent him or her in dealing with SSA. The information collected by SSA on form SSAS-1696-U4 is used to verify the applicant's appointment of a representative. It allows SSA to inform the representative of items which affect the applicant's claim, and it also allows the claimant to give permission to their appointed representative to designate a person to copy claims files. Respondents are applicants who notify SSA that they have appointed a person to represent them in their dealings with SSA when claiming a right to benefits and representatives of claimants for Social Security benefits.

Type of Request: Revision of an approved OMB information collection.

Number of Respondents: 551,520.

Frequency of Response: 1.

Average Burden per Response: 10 minutes.

Estimated Annual Burden: 91,920 hours.

9. Community Work Incentive Coordinator Application—0960—NEW. Section 1149 of the Social Security Act established the “Work Incentives Outreach Program.” The program was reauthorized by Section 407 of the Social Security Protection Act of 2004. To be eligible to work as a specialist under the new improved program, individuals must possess a bachelors degree or have equivalent qualifications derived from training and work experience. Through the services of a private contractor, SSA will collect the requested information to determine if an individual is qualified to provide services. Respondents are individuals who apply to become qualified as Community Work Incentive Coordinators.

Type of Request: Request for a new information collection.

Number of Respondents: 500.

Frequency of Response: 1.

Average Burden per Response: 60 minutes.

Estimated Annual Burden: 500 hours.

II. The information collections listed below have been submitted to OMB for clearance. Your comments on the information collections would be most useful if received by OMB and SSA within 30 days from the date of this publication. You can obtain a copy of the OMB clearance packages by calling the SSA Reports Clearance Officer at 410-965-0454, or by writing to the address listed above.

1. Farm Self-Employment Questionnaire—20 CFR 404.1095—0960-0061. Section 211(a) of the Social Security Act requires the existence of a trade or business as a prerequisite for determining whether an individual or partnership may have “net earnings from self-employment.” Form SSA-7156 elicits the information necessary to determine the existence of an agricultural trade or business and subsequent covered earnings for Social Security entitlement purposes. The respondents are applicants for Social Security benefits, whose entitlement depends on whether the worker has covered earnings from self-employment as a farmer.

Type of Request: Extension of an OMB-approved information collection.

Number of Respondents: 47,500.

Frequency of Response: 1.

Average Burden per Response: 10 minutes.

Estimated Annual Burden: 7,917 hours.

2. Authorization To Disclose Information to the Social Security Administration—20 CFR Subpart O, 404.1512 and Subpart I, 416.912—0960-0623. SSA must obtain sufficient medical evidence to make eligibility determinations for the SSDI benefits and Supplemental Security Income (SSI) payments. For SSA to obtain medical evidence, an applicant must authorize his or her medical source(s) to release the information to SSA. The applicant may use form SSA-827 to provide consent for release of information. Generally, the State DDS completes the form(s) based on information provided by the applicant, and sends the form(s) to the designated medical source(s). The respondents are applicants for SSDI and SSI payments.

Type of Request: Revision of an OMB-approved information collection.

Number of Respondents: 3,853,928.

Frequency of Response: 1 (Average forms per case 4).

Average Burden per Response: *13 minutes.

Total Annual Responses: 15,415,712.

Estimated Annual Burden: 835,018 hours.

*Please Note: Respondents to the SSA-827 collection complete a total four forms. SSA estimates that it takes a claimant 10 minutes to read both sides and sign the initial SSA-827. However, once a claimant reads the first form, it takes considerably less time to date and sign the subsequent forms because the forms do not have to be read again. SSA estimates the signing and dating of the three additional forms at one minute per form, resulting in three additional minutes. Therefore, the total time it takes to complete all four SSA-827's is 13 minutes.

3. Prisoner Matching Agreements—20 CFR 404.468 and 20 CFR 416.211 —0960-NEW.

Collection Background

Section 202(x) of the Social Security Act (the Act) and regulations at 20 CFR 404.468 preclude a person from receiving a benefit under title II for any month during which such individual is confined in a jail, prison, or other penal institution or correctional facility pursuant to his conviction of a criminal offense or because he/she is not-guilty by reason of insanity. Accordingly, Section 1611(e) of the Social Security Act and regulations at 20 CFR 416.211, provide that no person shall be an eligible individual or eligible spouse for title XVI with respect to any month if throughout such month he is an inmate of a public institution.

Prisoner Matching Collection Activity

To enforce these provisions of the Act, SSA has entered into agreements with the Federal Bureau of Prisons, along with State and local correctional facilities and certain mental health institutions, to submit monthly prisoner reports to SSA. SSA matches these reports against our files to identify incarcerated individuals receiving Social Security and Supplemental Security Income (SSI) payments and take action to suspend their payments. SSA uses the reports of confinement as the basis for stopping payments under titles II & XVI. The respondents to the collection are State and local correctional facilities, the Federal Bureau of Prisons and certain mental health institutions that have entered into prisoner matching agreements with SSA.

Type of Request: Collection in use without OMB Control Number.

Number of Respondents: 3,000.

Frequency of Response: 12.

Average Burden per Response: 60 minutes.

Estimated Annual Burden: 36,000 hours.

4. Fugitive Felon Matching Agreements—20 CFR 404.471 and 416.1339—0960-NEW.

Collection Background

Sections 202(x) and 1611(e)(4) of the Social Security Act provides that a person may not receive a benefit under title II and will not be eligible under title XVI for any month he or she is avoiding prosecution for a felony, is avoiding confinement or conviction of a felony, or is violating a condition of probation or parole. In jurisdictions that do not define crimes as felonies this nonpayment/ineligibility applies to any crime that is punishable by death or imprisonment for more than one year, regardless of the actual sentence imposed.

Fugitive Felon Matching Collection Activity

To enforce these provisions of the Act, SSA has entered agreements with the FBI's National Crime Information Center (NCIC), the U.S. Marshall Service, 21 individual States, Washington DC, and four metropolitan law enforcement agencies under which these law enforcement agencies submit outstanding felony and parole/probation violator warrants to SSA. SSA uses the reports of outstanding warrants as the basis for stopping payments under titles II & XVI. The respondents to the collection are the Federal, State and local law enforcement agencies that have entered into Fugitive Felon matching agreements with SSA.

Type of Request: Collection in use without OMB Control Number.

Number of Respondents: 28.

Frequency of Response: * 7.

Average Burden per Response: 60 minutes.

Estimated Annual Burden: 196 hours.

*Please Note: Seven responses per respondent is the average frequency of reporting. The actual response rate per respondent varies based on the individual need to report.

Dated: March 23, 2007.
Elizabeth A. Davidson,
Reports Clearance Officer, Social Security Administration.

[FR Doc. E7-5728 Filed 3-28-07; 8:45 am]

BILLING CODE 4191-02-P